DEPARTMENT OF THE INTERIOR

Fish and Wildlife Service

Approved Recovery Plan for the Mead's Milkweed (Asclepias meadii).

AGENCY: Fish and Wildlife Service, Interior.

ACTION: Notice of document availability.

SUMMARY: The U.S. Fish and Wildlife Service (Service) announces the availability of the approved recovery plan for the Mead's milkweed (Asclepias meadii), a species that is federally listed as threatened under the Endangered Species Act of 1973 (Act), as amended (16 U.S.C. 1531 et seq.). This species occurs primarily in tallgrass prairie, but also occurs in hay meadows and in thin soil glades or barrens. Actions needed for recovery of the Mead's milkweed include protecting and managing extant populations and potential recovery habitat.

ADDRESSES: This recovery plan is available from the following addresses:

1. Fish and Wildlife Reference Service, 5430 Grosvenor Lane, Suite 110, Bethesda, Maryland 20814 (the fee for the plan varies depending on the number of pages).

2. Field Supervisor, U.S. Fish and Wildlife Service, Chicago Ecological Services Field Office, 1250 S. Grove Avenue, Suite 103, Barrington, Illinois 60010.

3. The World Wide Web at http://endangered.fws.gov/RECOVERY/index.html#plans

FOR FURTHER INFORMATION CONTACT: Mr. Kristopher Lah, Chicago Ecological Services Field Office (see ADDRESSES section No. 2 above), telephone (847) 381-2253 ext. 215. The Fish and Wildlife Reference Service may be reached at (301) 492-6403 or (800) 582-3421. TTY users may contact Mr. Lah and the Fish and Wildlife Reference Service through the Federal Relay Service at (800) 877-8339.

SUPPLEMENTARY INFORMATION:

Background

Recovery of endangered or threatened animals or plants is a primary goal of the Service's endangered species program. A species is considered recovered when the species' ecosystem is restored and/or threats to the species are removed so that self-sustaining and self-regulating populations of the species can be supported as persistent members of native biotic communities. Recovery plans describe actions considered necessary for the conservation of the species, establish criteria for delisting listed species, and estimate time and cost for implementing the measures needed for recovery.

The Endangered Species Act of 1973, as amended, requires that recovery plans be developed for listed species unless such a plan would not promote the conservation of a particular species. Section 4(f) of the Act, as amended in 1988, requires that during recovery plan development, we provide public notice and an opportunity for public review and comment. Information presented during the comment period has been considered in the preparation of the approved recovery plan, and is summarized in an appendix to the recovery plan. We will forward substantive comments regarding recovery plan implementation to appropriate Federal agencies and other entities so that they can take these comments into account during the course of implementing recovery actions.

The Mead's milkweed was listed as a threatened species under the Act on September 1, 1988 (53 FR 33982). The Mead's milkweed is currently known to persist in eastern Kansas, Missouri, south-central Iowa, and southern Illinois. Populations no longer occur in Wisconsin and Indiana. Seventy-five percent of the Mead's milkweed populations are in the Osage Plains Physiographic Region in Kansas and Missouri. The remainder of the populations occur in the Shawnee Hills of Illinois; the Southern Iowa Drift Plain in Iowa; the Glaciated Plains, Ozark Border, Ozark Springfield Plateau, the Ozark-St. Francois Mountains, Missouri; and the Glaciated Physiographic Region of Kansas. Mead's milkweed populations have been eliminated by wide-scale agriculture in the eastern part of the species' range. Many large populations occur in private hay meadows where a century of annual mowing has severely reduced genetic diversity by preventing sexual reproduction. Among the surviving populations in eastern Missouri, Illinois, and Iowa, most consist of a few genetically invariant clones that are incapable of reproduction. Population restoration efforts are being made in Illinois, Indiana, and Wisconsin by introducing Mead's milkweed into suitable habitat.

The objective of this plan is to provide a framework for the recovery of the Mead's milkweed so that protection by the Act is no longer necessary. As recovery criteria are met, the status of the species will be reviewed and it will be considered for removal from the list of Endangered and Threatened Plants (50 CFR part 17). The Mead's milkweed will be considered for delisting when 21 populations are distributed across plant communities and physiographic regions within the historic range of the species, each of these 21 populations is highly viable, and monitoring indicates that these populations have had a stable or increasing trend for 15 years. A highly viable population has the following characteristics: more than 50 mature plants; seed production; increase in size and maturity; genetically diverse with more than 50 genotypes; 125 acres (50 hectares) or more of late-successional habitat; habitat protection through long-term conservation easements, legal dedication as a nature preserve, or other means; and habitat management by fire in order to maintain a late-successional graminoid vegetation structure that is free of woody vegetation.

Authority: The authority for this action is section 4(f) of the Endangered Species Act, 16 U.S.C. 1533 (f).

Dated: August 21, 2003.
Charles M. Wooley,
Assistant Regional Director, Ecological Services, Region 3, Fort Snelling, Minnesota.

[FR Doc. 03-24075 Filed 9-18-03; 12:01 pm]

BILLING CODE 4310-55-P